DEPARTMENT OF COMMERCE

National Oceanic and Atmospheric Administration

50 CFR Part 648

[Docket No. 201209-0332; RTID 0648-XB484]

Fisheries of the Northeastern United States; Atlantic Bluefish Fishery; Quota Transfers From VA to RI and NJ to MA

AGENCY: National Marine Fisheries Service (NMFS), National Oceanic and Atmospheric Administration (NOAA), Commerce.

ACTION: Notification; quota transfers.

SUMMARY: NMFS announces that the Commonwealth of Virginia and the State of New Jersey are transferring a portion of their 2021 commercial bluefish quota to the State of Rhode Island and the Commonwealth of Massachusetts, respectively. These quota adjustments are necessary to comply with the Atlantic Bluefish Fishery Management Plan quota transfer provisions. This announcement informs the public of the revised commercial bluefish quotas for Virginia, Rhode Island, New Jersey, and Massachusetts.

DATES: Effective September 30, 2021, through December 31, 2021.

FOR FURTHER INFORMATION CONTACT: Laura Hansen, Fishery Management Specialist, (978) 281-9225.

SUPPLEMENTARY INFORMATION: Regulations governing the Atlantic bluefish fishery are found in 50 CFR 648.160 through 648.167. These regulations require annual specification of a commercial quota that is apportioned among the coastal states from Maine through Florida. The process to set the annual commercial quota and the percent allocated to each state is described in § 648.162, and the final 2021 allocations were published on December 16, 2020 (85 FR 81421).

The final rule implementing Amendment 1 to the Bluefish Fishery Management Plan (FMP) published in the Federal Register on July 26, 2000 (65 FR 45844), and provided a mechanism for transferring bluefish quota from one state to another. Two or more states, under mutual agreement and with the concurrence of the NMFS Greater Atlantic Regional Administrator, can request approval to transfer or combine bluefish commercial quota under § 648.162(e)(1)(i) through (iii). The Regional Administrator must approve any such transfer based on the criteria in § 648.162(e). In evaluating requests to transfer a quota or combine quotas, the Regional Administrator shall consider whether: The transfer or combinations would preclude the overall annual quota from being fully harvested; the transfer addresses an unforeseen variation or contingency in the fishery; and the transfer is consistent with the objectives of the FMP and the Magnuson-Stevens Act.

Virginia is transferring 20,000 lb (9,072 kg) to Rhode Island, and New Jersey is transferring 50,000 lb (22,680 kg) to Massachusetts through mutual agreement of the states. These transfers were requested to ensure that Rhode Island and Massachusetts would not exceed their 2021 state quota. The revised bluefish quotas for 2021 are: Virginia, 238,800 lb (108,318 kg); Rhode Island, 223,434 lb (101,348 kg); New Jersey, 320,082 lb (145,187 kg); and, Massachusetts, 235,904 lb (107,004 kg).

Classification

NMFS issues this action pursuant to section 305(d) of the Magnuson-Stevens Act. This action is required by 50 CFR 648.162(e)(1)(i) through (iii), which was issued pursuant to section 304(b), and is exempted from review under Executive Order 12866.

Authority: 16 U.S.C. 1801 et seq.

Dated: September 30, 2021.
Jennifer M. Wallace,
Acting Director, Office of Sustainable Fisheries, National Marine Fisheries Service.

[FR Doc. 2021-21676 Filed 9-30-21; 4:15 pm]

BILLING CODE 3510-22-P